DEPARTMENT OF ENERGY

Federal Energy Regulatory Commission

Combined Notice of Filings #1

Take notice that the Commission received the following electric rate filings:

Docket Numbers: ER20-1644-001; ER20-1965-002.

Applicants: Versant Power, ENMAX Energy Marketing, Inc.

Description: Versant Power, et al. submits Triennial Market Power Analysis for the Northeast Region.

Filed Date: 12/7/22.

Accession Number: 20221207-5172.

Comment Date: 5 p.m. ET 2/6/23.

Docket Numbers: ER20-1742-004.

Applicants: San Diego Gas & Electric Company.

Description: Compliance filing: Order No. 864 Compliance to be effective 1/27/2020.

Filed Date: 12/8/22.

Accession Number: 20221208-5083.

Comment Date: 5 p.m. ET 12/29/22.

Docket Numbers: ER23-574-000.

Applicants: Oakland Power Company LLC.

Description: § 205(d) Rate Filing: Revisions to RMR Agmt. for Recovery of CARB Compliance Costs to be effective 12/8/2022.

Filed Date: 12/7/22.

Accession Number: 20221207-5142.

Comment Date: 5 p.m. ET 12/28/22.

Docket Numbers: ER23-575-000.

Applicants: Valley Electric Association, Inc.

Description: § 205(d) Rate Filing: Annual TRBAA Filing for 2023 to be effective 1/1/2023.

Filed Date: 12/8/22.

Accession Number: 20221208-5018.

Comment Date: 5 p.m. ET 12/29/22.

Docket Numbers: ER23-576-000.

Applicants: PJM Interconnection, L.L.C.

Description: § 205(d) Rate Filing: Original UCSA, Service Agreement No. 6712; Queue Position J806 to be effective 11/8/2022.

Filed Date: 12/8/22.

Accession Number: 20221208-5038.

Comment Date: 5 p.m. ET 12/29/22.

Docket Numbers: ER23-577-000.

Applicants: PJM Interconnection, L.L.C.

Description: § 205(d) Rate Filing: Amendment to ISA, Service Agreement No. 2360; Queue No. AD2-133/Q36 to be effective 5/12/2021.

Filed Date: 12/8/22.

Accession Number: 20221208-5041.

Comment Date: 5 p.m. ET 12/29/22.

Docket Numbers: ER23-578-000.

Applicants: Dominion Energy South Carolina, Inc.

Description: Initial rate filing: Jasper Station Provisional LGIA to be effective 2/7/2023.

Filed Date: 12/8/22.

Accession Number: 20221208-5047.

Comment Date: 5 p.m. ET 12/29/22.

Docket Numbers: ER23-579-000.

Applicants: Arizona Public Service Company.

Description: § 205(d) Rate Filing: Service Agreement No. 406, Chevelon Butte LGIA, Amendment No. 2 to be effective 12/1/2022.

Filed Date: 12/8/22.

Accession Number: 20221208-5052.

Comment Date: 5 p.m. ET 12/29/22.

Docket Numbers: ER23-580-000.

Applicants: PJM Interconnection, L.L.C.

Description: § 205(d) Rate Filing: Amendment to WMPA, SA No. 5591; Queue No. AE2-054 (Agreement to Amend) to be effective 1/22/2020.

Filed Date: 12/8/22.

Accession Number: 20221208-5055.

Comment Date: 5 p.m. ET 12/29/22.

Docket Numbers: ER23-581-000.

Applicants: Rock Falls Wind Farm LLC.

Description: Tariff Amendment: Notice of Cancellation of Market-Based Rate Tariff of Rock Falls Wind Farm to be effective 12/31/9998.

Filed Date: 12/8/22.

Accession Number: 20221208-5064.

Comment Date: 5 p.m. ET 12/29/22.

Take notice that the Commission received the following electric securities filings:

Docket Numbers: ES23-11-000.

Applicants: El Paso Electric Company.

Description: El Paso Electric Company submits Application Under Section 204 of the Federal Power Act for Authorization to Issue Securities.

Filed Date: 12/7/22.

Accession Number: 20221207-5175.

Comment Date: 5 p.m. ET 12/28/22.

Docket Numbers: ES23-12-000; ES23-13-000; ES23-14-000; ES23-15-000; ES23-16-000.

Applicants: Transource Maryland, LLC, Transource Missouri, LLC, Transource Oklahoma, LLC, Transource Pennsylvania, LLC, Transource West Virginia, LLC, Transource Maryland, LLC, Transource Missouri, LLC, Transource Oklahoma, LLC, Transource Pennsylvania, LLC, Transource West Virginia, LLC, Transource Maryland, LLC, Transource Missouri, LLC, Transource Oklahoma, LLC, Transource Pennsylvania, LLC, Transource West Virginia, LLC, Transource Maryland, LLC, Transource Missouri, LLC, Transource Oklahoma, LLC, Transource Pennsylvania, LLC, Transource West Virginia, LLC, Transource Maryland, LLC, Transource Missouri, LLC, Transource Oklahoma, LLC, Transource Pennsylvania, LLC, Transource West Virginia, LLC.

Description: Transource Maryland, LLC, et al. submits Application Under Section 204 of the Federal Power Act for Authorization to Issue Securities.

Filed Date: 12/7/22.

Accession Number: 20221207-5176.

Comment Date: 5 p.m. ET 12/28/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 8, 2022.
Kimberly D. Bose,
Secretary.

[FR Doc. 2022-27125 Filed 12-13-22; 8:45 am]

BILLING CODE 6717-01-P